PENSION BENEFIT GUARANTY CORPORATION

OMB Approval of Information Collections; Reportable Events; Notice of Failure To Make Required Contributions

AGENCY: Pension Benefit Guaranty Corporation.

ACTION: Notice of OMB approval of revised collections of information.

SUMMARY: The Office of Management and Budget (OMB) has approved revisions to two collections of information under the Pension Benefit Guaranty Corporation's regulation on Reportable Events and Certain Other Notification Requirements.

FOR FURTHER INFORMATION CONTACT: Catherine B. Klion, Assistant General Counsel for Regulatory Affairs, Office of the General Counsel, Pension Benefit Guaranty Corporation, 1200 K Street NW., Washington, DC 20005-4026; 202-326-4024. (TTY/TDD users may call the Federal relay service toll-free at 1-800-877-8339 and ask to be connected to 202-326-4024.)

SUPPLEMENTARY INFORMATION: On September 11, 2015 (at 80 FR 54980), the Pension Benefit Guaranty Corporation (PBGC) published a final rule amending its regulation on Reportable Events and Certain Other Notification Requirements (29 CFR part 4043) to modify the system of waivers from reporting, implement provisions of the Pension Protection Act of 2006, and make other changes. PBGC made changes to two collections of information:

• Reportable Events, OMB control number, 1212-0013 (covering subparts B and C of 29 CFR part 4043).

• Notice of Failure to Make Required Contributions, OMB control number 1212-0041 (covering subpart D of 29 CFR part 4043).

PBGC submitted the revised collections of information for review by OMB under the Paperwork Reduction Act. On November 24, 2015, OMB approved the revised collections of information through November 30, 2018. An agency may not conduct or sponsor, and a person is not required to respond to, a collection of information unless it displays a currently valid OMB control number.

Issued in Washington, DC, this 2nd day of December, 2015.
Judith Starr,
General Counsel, Pension Benefit Guaranty Corporation.

[FR Doc. 2015-30771 Filed 12-4-15; 8:45 am]

BILLING CODE 7709-02-P